INTERNATIONAL TRADE COMMISSION

[USITC SE-08-026]

Government in the Sunshine Act Meeting Notice

Agency Holding the Meeting: United States International Trade Commission.

Time and Date: September 11, 2008 at 11 a.m.

Place: Room 101, 500 E Street SW., Washington, DC 20436, Telephone: (202) 205-2000.

Status: Open to the public.

Matters To Be Considered: 1. Agenda for future meetings: none

2. Minutes

3. Ratification List

4. Inv. No. 731-TA-1123 (Final) (Steel Wire Garment Hangers from China)—briefing and vote. (The Commission is currently scheduled to transmit its determination and Commissioner's opinions to the Secretary of Commerce on or before September 22, 2008.)

5. Outstanding action jackets: none

In accordance with Commission policy, subject matter listed above, not disposed of at the scheduled meeting, may be carried over to the agenda of the following meeting.

Issued: September 2, 2008.
By order of the Commission.
William R. Bishop,
Hearings and Meetings Coordinator.

[FR Doc. E8-20664 Filed 9-5-08; 8:45 am]

BILLING CODE 7020-02-P